DEPARTMENT OF HOMELAND SECURITY

Office of the Secretary

6 CFR Part 37

RIN 1601-AA91

Minimum Standards for Driver's Licenses and Identification Cards Acceptable by Federal Agencies for Official Purposes; Implementation of the REAL ID Act Modification for Freely Associated States Act; Correction

AGENCY: Office of the Secretary, DHS.

ACTION: Final rule; correction.

SUMMARY: The Department of Homeland Security (DHS) is correcting a final rule that published in the Federal Register on September 4, 2019. On September 4, 2019, DHS published two documents in the Federal Register related to the implementation of the REAL ID Modification for Freely Associated States Act: A final rule implementing the REAL ID Modification for Freely Associated States Act, and a notice designating an unexpired foreign passport and valid Form I-94 (Arrival-Departure Record) as acceptable identity documentation for purposes of obtaining a REAL ID driver's license or identification card for eligible citizens of the Freely Associated States. The text of footnote 9, which was included in the final rule, was overtaken by the notice published on the same date. Through this correction, the text of footnote 9 is being revised.

DATES: Effective on September 12, 2019.

FOR FURTHER INFORMATION CONTACT: Steve Yonkers, Director, Biometrics and Credentialing/REAL ID Program, U.S. Department of Homeland Security Office of Policy, Strategy, and Plans, Washington, DC 20528, (202) 447-3274.

SUPPLEMENTARY INFORMATION: In FR Doc. 2019-19023 appearing on page 46423 in the Federal Register of Wednesday, September 4, 2019, the following correction is made:

1. On page 46424, in the third column, in footnote 9, the text is revised to read as follows: “See 6 CFR 37.11.”

Christina McDonald,
Associate General Counsel for Regulatory Affairs.

[FR Doc. 2019-19702 Filed 9-11-19; 8:45 am]

BILLING CODE 9110-9M-P